DEPARTMENT OF ENERGY

Western Area Power Administration

Post-2010 Resource Pool, Pick-Sloan Missouri Basin Program—Eastern Division

AGENCY: Western Area Power Administration, DOE.

ACTION: Notice of final power allocation.

SUMMARY: Western Area Power Administration (Western), Upper Great Plains Region, a Federal power marketing agency of the Department of Energy (DOE), hereby announces the Post-2010 Resource Pool Power Allocation (Power Allocation) to fulfill the requirements of the Energy Planning and Management Program (Program). The Power Allocation comes from a Federal power resource pool of the long-term marketable resource of the Pick-Sloan Missouri Basin Program—Eastern Division (P-SMBP—ED) that is available January 1, 2011. Western will use power previously returned to Western for this resource pool and will not need to withdraw power from existing customers.

The Final Power Allocation is published to show Western's decisions prior to beginning the contractual phase of the process. A firm electric service contract, between Western and the allottee in this notice, will provide for an allocation of power to the allottee beginning with the January 2011 billing period through the December 2020 billing period.

DATES: The Power Allocation is effective February 11, 2010.

ADDRESSES: Information about this Power Allocation, including letters and other supporting documents made or kept by Western in developing the final allocation, is available for public inspection and copying at the Upper Great Plains Region, Western Area Power Administration, 2900 4th Avenue North, Billings, MT 59101-1266.

FOR FURTHER INFORMATION CONTACT: John A. Pankratz, Public Utilities Specialist, Upper Great Plains Region, Western Area Power Administration, 2900 4th Avenue North, Billings, MT 59101-1266, telephone (406) 247-7392, e-mail pankratz@wapa.gov.

SUPPLEMENTARY INFORMATION: Western published the final Post-2010 Resource Pool Allocation Procedures (Procedures) in the Federal Register (74 FR 20697, May 5, 2009), to implement Subpart C-Power Marketing Initiative of the Program's Final Rule (10 CFR 905), published in the Federal Register (60 FR 54151, October 20, 1995). The Program, developed in part to implement section 114 of the Energy Policy Act of 1992, became effective on November 20, 1995. The goal of the Program is to require planning for efficient electric energy use by Western's long-term firm power customers and to extend Western's firm power resource commitments. One aspect of the Program is to establish project-specific power resource pools and allocate power from these pools to new preference customers. This Post-2010 Resource Pool is the final resource pool under the Program.

Western published its proposed allocation in the Federal Register (74 FR 37702, July 29, 2009), and initiated a public comment period. A public information and comment forum on the proposed allocation was held on September 17, 2009. The public comment period ended on September 28, 2009. Western received no public comments during the public comment period on the proposed allocation.

The Procedures, in conjunction with the Post-1985 Marketing Plan (45 FR 71860, October 30, 1980), establish the framework for allocating power from the P-SMBP—ED.

Final Allocation of Power

The Power Allocation for the new customer was calculated using the Procedures. As defined in the Post-1985 Marketing Plan criteria under the Procedures, the summer allocation is 24.84413 percent of peak summer load; the winter allocation is 35.98853 percent of peak winter load. The final Power Allocation of power for the new eligible customer and the load, which this allocation is based upon, is as follows:

New customer | 2007 Summer season peak load (kilowatts) | 2007 Winter season peak load (kilowatts) | Post-2010 Resource pool power allocation: Summer kilowatts | Post-2010 Resource pool power allocation: Winter kilowatts
City of New Ulm, MN | 1,626 | 1,301 | 404 | 468

The final Power Allocation for the City of New Ulm, Minnesota, is based on the P-SMBP—ED marketable resource available at this time. Western, in accordance with 10 CFR 905.32(e)(2) of the Program, will use power previously placed under contract and subsequently returned to Western through termination of that contract for this final Power Allocation. A firm electric service contract will be offered by Western to the City of New Ulm, Minnesota. If the P-SMBP—ED marketable resource is adjusted in the future, the Power Allocation may be adjusted accordingly.

Post-2010 Resource Pool Procedures Requirements

Environmental Compliance

In compliance with the National Environmental Policy Act (NEPA) of 1969 (42 U.S.C. 4321-4347 (2007)); the Council on Environmental Quality Regulations for implementing NEPA (40 CFR parts 1500-1508); and DOE NEPA Implementing Procedures and Guidelines (10 CFR part 1021), Western has determined that this action is categorically excluded from further NEPA review.

Dated: January 5, 2010.
Timothy J. Meeks,
Administrator.

[FR Doc. 2010-320 Filed 1-11-10; 8:45 am]

BILLING CODE 6450-01-P